DEPARTMENT OF THE INTERIOR

Fish and Wildlife Service

Information Collection Renewal To Be Submitted to the Office of Management and Budget (OMB) for Approval Under the Paperwork Reduction Act; State Certification of Expenditures, Public Law 106-408; OMB Control No. 1018-0117

AGENCY: Fish and Wildlife Service, Interior.

ACTION: Notice; request for comments.

SUMMARY: The Fish and Wildlife Service (We) plans to submit the collection of information described below to OMB for renewal under the provisions of the Paperwork Reduction Act of 1995. The Wildlife and Sport Fish Restoration Programs Improvement Act of 2000 (Pub. L. 106-408) requires that States certify annually in writing that their expenditures of Federal grant funds under the Federal Aid in Wildlife and Sport Fish Restoration Acts were in accordance with the appropriate Act.

DATES: You must submit comments on or before April 4, 2005.

ADDRESSES: Send your comments on this information collection to Hope Grey, Information Collection Clearance Officer, Fish and Wildlife Service, MS 222-ARLSQ, 4401 North Fairfax Drive, Arlington, VA 22203; hope_grey@fws.gov (email); or (703) 358-2269 (fax).

FOR FURTHER INFORMATION CONTACT: To request a copy of the information collection requirements, explanatory information, form, or related materials, contact Hope Grey at the above addresses or by telephone at 703-358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see 5 CFR 1320.8(d)).

We administer grant programs authorized by the Federal Aid in Wildlife and Sport Fish Restoration Acts. The Wildlife and Sport Fish Restoration Programs Improvement Act of 2000 requires that States certify annually in writing that their expenditures of these Federal grants funds were in accordance with the appropriate Act. We must forward these certifications to Congress annually by December 31. The OMB control number for this information collection is 1018-0117, and the OMB approval for this collection expires on May 31, 2005. We plan to send a request to OMB to renew its approval of this information collection for a 3-year term. An agency may not conduct or sponsor and a person is not required to respond to a collection of information unless it displays a currently valid OMB control number.

Title: State Certification of Expenditures, Public Law 106-408.

OMB Control Number: 1018-0117.

Form Number: FWS Form 3-2197a.

Frequency of Collection: Annually.

Description of Respondents: States, Commonwealth of Puerto Rico, District of Columbia, Commonwealth of the Northern Mariana Islands, Guam, U.S. Virgin Islands, and American Samoa.

Annual Burden Estimates
Name | Completion time per form | Total annual number of responses | Total annual burden hours
State certification of spending (FWS Form 3-2197a) | 30 minutes | 56 | 28

We invite comments on: (1) Whether or not the collection of information is necessary for the proper performance of the functions of the agency, including whether or not the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Dated: January 21, 2005.
Hope Grey,
Information Collection Clearance Officer, Fish and Wildlife Service.

[FR Doc. 05-2013 Filed 2-2-05; 8:45 am]

BILLING CODE 4310-55-P